ENVIRONMENTAL PROTECTION AGENCY

40 CFR Part 63

[FRL-6996-8]

Approval of Section 112(l) Authority for Hazardous Air Pollutants; Chemical Accident Prevention Provisions; Risk Management Plans; New Jersey Department of Environmental Protection

AGENCY: Environmental Protection Agency (EPA).

ACTION: Proposed rule.

SUMMARY: Pursuant to section 112(l) of the Clean Air Act (CAA), the New Jersey Department of Environmental Protection (NJDEP) requested delegation of the Federal Chemical Accident Prevention Provisions promulgated by EPA under section 112(r) of the CAA for all stationary sources with covered processes (subject sources) under its jurisdiction except those having certain specified flammable liquified petroleum gases (LPG). This action proposes to grant such authority. In the Rules section of this Federal Register, EPA is granting NJDEP the authority to implement and enforce the Toxic Catastrophe Prevention Act Program rule, effective July 20, 1998, at New Jersey Administrative Code (NJAC) 7:31-1.1 through 1.10 and NJAC 7:31-2.1 through 8.2 in place of the Federal Chemical Accident Prevention Provisions for all subject sources under NJDEP's jurisdiction. EPA retains the authority to regulate subject sources having processes covered only because they contain regulated quantities of LPG gases regulated under the New Jersey Liquified Petroleum Gas Act of 1950 (NJSA 21:1B). The direct final rule explains the rationale for this approval. EPA is taking direct final action without prior proposal because the Agency views this as a noncontroversial action and anticipates no adverse comments. If no adverse comments are received no further activity is contemplated. If EPA receives adverse comments, the direct final rule will be withdrawn and all public comments received will be addressed in a subsequent final rule based on this proposed rule. EPA will not institute a second comment period. Any parties interested in commenting should do so at this time. In the spirit of Executive Orders 13132 and 13175, and consistent with EPA policy to promote communications between EPA and State, local and tribal governments, EPA specifically solicits comments on this proposed rule from State, local and tribal officials.

DATES: Written comments must be received by August 2, 2001.

ADDRESSES: Written comments should be addressed to: Steven C. Riva, Chief, Permitting Section, Air Programs Branch, U. S. Environmental Protection Agency, Region 2, 290 Broadway, New York, New York 10007-1866, with a copy to Ms. Shirlee Schiffman, Chief, Bureau of Chemical Release Information and Prevention, New Jersey Department of Environmental Protection, P.O. Box 424, 22 South Clinton Avenue, Trenton, New Jersey 08625-0424. Copies of the submitted requests are available for public review at EPA Region 2's office during normal business hours (docket # A-2000-23). Any State responses to comments must be submitted to the Administrator within 30 days of the close of the public comment period.

FOR FURTHER INFORMATION CONTACT: Umesh Dholakia at (212) 637-4023

SUPPLEMENTARY INFORMATION:

Authority: This action is issued under the authority of section 112 of the Clean Air Act, as amended, 42 U.S.C. 7412.

Dated: May 25, 2001.
Kathleen C. Callahan,
Acting Regional Administrator, Region 2.

[FR Doc. 01-16562 Filed 7-2-01; 8:45 am]

BILLING CODE 6560-50-P